SOCIAL SECURITY ADMINISTRATION

Statement of Organization, Functions and Delegations of Authority

This statement amends Part S of the Statement of the Organization, Functions and Delegations of Authority that covers the Social Security Administration (SSA). Chapter S4 covers the Deputy Commissioner for Systems. Notice is given that Chapter S4 is being amended to reflect the addition of a new subordinate staff office to subchapter S4N, the Office of Information Technology Architecture. The new material and changes are as follows:

Section S4.10 The Office of the Deputy Commissioner, Systems—(Organization):

Establish:

H. The Data Administration Staff (S4NF)

Section S4N.20 Office of Information Technology Architecture—(Functions):

Establish:

H. Data Administration Staff (S4NF)

1. Responsible for all SSA-wide data administration.

2. Directs the development of Systems-wide policies, procedures and standards for the specific phases of the life cycle development process and development of methods to assure the quality of systems products.

3. Directs the integration of data and process models, as well as software designs.

4. Directs the development of requirements for standardizing data collection across application areas.

5. Provides program expertise and process management direction and oversight for crosscutting segments for all SSA systems initiatives, legislative initiatives or projects involving the initiation, interpretation and/or the implementation of administrative and programmatic systems.

6. Provides a variety of high level coordinate, analytical, consultative and advisory services to SSA as a whole relative to very visible and complex systems initiatives.

Dated: September 18, 2001.
Larry G. Massanari,
Acting Commissioner of Social Security.

[FR Doc. 01-24119 Filed 9-26-01; 8:45 am]

BILLING CODE 4191-02-P